DEPARTMENT OF COMMERCE

National Oceanic and Atmospheric Administration

50 CFR Part 679

RIN 0648-BL54

Fisheries of the Exclusive Economic Zone Off Alaska; Amendment 124 to the BSAI FMP for Groundfish and Amendment 112 to the GOA FMP for Groundfish To Revise IFQ Program Regulations

AGENCY: National Marine Fisheries Service (NMFS), National Oceanic and Atmospheric Administration (NOAA), Commerce.

ACTION: Notice of availability of fishery management plan amendment; request for comments.

SUMMARY: The North Pacific Fishery Management Council (Council) submitted Amendment 124 to the Fishery Management Plan for Groundfish of the Bering Sea and Aleutian Islands Management Area (BSAI FMP) and Amendment 112 to the Fishery Management Plan for Groundfish of the Gulf of Alaska (GOA FMP) to the Secretary of Commerce for review. If approved, Amendment 124 to the BSAI FMP and Amendment 112 to the GOA FMP would authorize the use of jig gear in the sablefish individual fishing quota (IFQ) and community development quota (CDQ) programs. Amendment 124 would also remove the residency requirements for Community Quota Entity (CQE). These amendments are intended to promote the goals and objectives of the Magnuson-Stevens Fishery Conservation and Management Act (Magnuson-Stevens Act), the FMPs, and other applicable laws.

DATES: Submit comments on or before January 3, 2023

ADDRESSES: You may submit comments on this document, identified by [NOAA-NMFS-2022-0092], by any of the following methods:

• Electronic Submission: Submit all electronic public comments via the Federal e-Rulemaking Portal. Go to https://www.regulations.gov and enter [NOAA-NMFS-2022-0092] in the Search box. Click on the “Comment” icon, complete the required fields, and enter or attach your comments.

• Mail: Submit written comments to the Assistant Regional Administrator, Sustainable Fisheries Division, Alaska Region NMFS. Mail comments to P.O. Box 21668, Juneau, AK 99802-1668.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

Electronic copies of the FMP Amendments, the Environmental Assessment/Regulatory Impact Review (herein referred to as the “Analysis”), and the Finding of No significant Impact (FONSI) prepared for this action are available from www.regulations.gov or from the NMFS Alaska Region website at https://www.fisheries.noaa.gov/region/alaska.

FOR FURTHER INFORMATION CONTACT: Abby Jahn, 907-586-7228 or abby.jahn@noaa.gov.

SUPPLEMENTARY INFORMATION: NMFS manages the groundfish fisheries of the BSAI under the BSAI FMP and the GOA under the GOA FMP. The North Pacific Fishery Management Council (Council) prepared, and the Secretary of Commerce (Secretary) approved, the BSAI FMP and GOA FMP under the authority of the Magnuson-Stevens Act (16 U.S.C. 1801 et seq.). The Magnuson-Stevens Act requires that each regional fishery management council submit any FMP amendment prepared to NMFS for review and approval, disapproval, or partial approval by the Secretary of Commerce. The Magnuson-Stevens Act also requires that NMFS, upon receiving a FMP amendment, immediately publish a document in the Federal Register announcing that the amendment is available for public review and comment. This notice announces that the proposed amendments are available for public review and comment.

Amendment 124 to the BSAI FMP would authorize jig gear for the harvest of sablefish IFQ and CDQ in the BSAI. Amendment 112 to the GOA FMP would authorize jig gear for the harvest of sablefish IFQ and CDQ in the GOA. These FMP revisions specific to the IFQ Program and CDQ Program would increase allowable gear types for fishery participants and provide an additional opportunity for entry-level participation. These FMP revisions would also provide consistency across fixed gear terminology for both FMPs so that it is clear that jig gear is an allowable gear type and is a separate category from other fixed gear types.

Amendment 124 to the BSAI FMP would also remove reference to specific residency requirement and lease provisions for the CQE Program and defer to regulations. This would allow any future regulatory changes to be implemented without an FMP amendment.

Amendment 124 to the BSAI FMP would amend Section 3.2.4.3 of the FMP to authorize jig gear to harvest sablefish in the BSAI sablefish IFQ and CDQ fisheries. This amendment would add jig gear to the list of fixed gear types. Section 3.7.1.8.4 would be revised to remove the reference to residency requirements for leasing quota share (QS) and adding a sentence which defers to regulations for CQEs that both own and wish to lease QS.

Amendment 112 to the GOA FMP would amend Table ES-2, Section 3.2.3.4.3.3.1, 3.4.2, 3.7.1.1, and 4.1.2.3 to authorize jig gear to harvest sablefish in the GOA sablefish IFQ and CDQ fisheries. This amendment would add jig gear as a separate gear category from longline gear for consistency with the BSAI FMP and regulations. These amendments are necessary to provide entry-level fishing opportunities for fishery participants, provide consistency across FMPs and in regulations, and defer to regulations for residency requirements for leasing CQE.

The Council's intent to authorize jig gear as a legal gear type for the harvest of sablefish IFQ and CDQ is to provide an entry-level opportunity for fishery participants to harvest sablefish IFQ and CDQ. Vessels that use jig gear contribute to a diversified fishing portfolio for combination fishing vessels in coastal communities. Most jig vessels target Pacific cod followed by rockfish. The majority of jig harvested groundfish occurs in the GOA, however, authorizing jig gear for the harvest of sablefish could increase its use in the BSAI. Amendment 124 to the BSAI and Amendment 112 to the GOA would provide fishery participants the opportunity to use jig gear to harvest sablefish IFQ and align FMPs and regulations for consistency and clarity.

The Council's intent to remove the Adak CQE residency requirement for a period of 5 years is to create additional opportunities for the Adak CQE to fully harvest its allocation. The exception would allow the Adak CQE, the Adak Community Development Corporation (ACDC) to lease QS to non-residents on an annual basis to increase utilization of CQE held QS and stimulate a stable fishing economy in the community. Amendment 124 to the BSAI FMP would provide flexibility if regulations for the Adak CQE residency requirements are recommended for revisions in the future because an FMP amendment would no longer be required.

NMFS is soliciting public comments on the proposed amendments through the end of the comment period (see DATES). NMFS intends to publish in the Federal Register and seek public comment on a proposed rule that would implement these amendments, following NMFS's evaluation of the proposed rule under the Magnuson-Stevens Act and the Halibut Act. All comments received by the end of the comment period on these amendments, whether specifically directed to the FMP amendments or the proposed rule, will be considered in the approval/disapproval decision on these amendments. Comments received after that date may not be considered in the approval/disapproval decision on these amendments. To be certain of consideration, comments must be received, not just postmarked or otherwise transmitted, by the last day of the comment period.

Authority: 16 U.S.C. 1801 et seq.

Dated: October 28, 2022.
Jennifer M. Wallace,
Acting Director, Office of Sustainable Fisheries, National Marine Fisheries Service.

[FR Doc. 2022-23849 Filed 11-1-22; 8:45 am]

BILLING CODE 3510-22-P